Title 3—

The President

Proclamation 7376 of November 13, 2000

International Education Week, 2000

By the President of the United States of America

A Proclamation

Today we live in a global community, where all countries must work as partners to promote peace and prosperity and to resolve international problems. One of the surest ways to develop and strengthen such partnerships is through international education programs.

These programs enable students to learn other languages, experience other cultures, develop a broader understanding of global issues, and make lasting friendships with their peers in other countries who will one day guide the political, cultural, and economic development of their nations. Some of America's staunchest friends abroad are those who have experienced our country firsthand as exchange students or who have been exposed to American values through contact with American students and scholars studying overseas.

Since World War II, the Federal Government has worked in partnership with colleges, universities, and other educational organizations to sponsor programs that help our citizens gain the international experience and skills needed to meet the challenges of an increasingly interdependent world. At the same time, American educational institutions have developed study programs that attract students from all over the world to further their education in the United States.

One of the largest and most renowned of these international education initiatives is the Fulbright Program, which was founded by Senator J. William Fulbright more than half a century ago. Since its inception, the program has provided nearly a quarter of a million participants from the United States and 140 other nations—participants chosen for their academic and professional qualifications and leadership potential—with the opportunity to study and teach abroad and to gain knowledge of global political, economic, and cultural institutions. As Senator Fulbright envisioned, this program has proved to be a vital and positive force for peace and understanding around the world.

To build on this tradition of excellence in international education, I signed a memorandum in April of this year directing the heads of Executive departments and agencies to work with educational institutions, State and local governments, private organizations, and the business community to develop a coordinated national policy on international education. We must reaffirm our national commitment to encouraging students from other countries to study in the United States, promote study abroad by U.S. students, and support the exchange of teachers, scholars, and citizens at all levels of society. By doing so, we can expand our citizens' intellectual and cultural horizons, strengthen America's economic competitiveness, increase under standing between nations and peoples, and, as Senator Fulbright so eloquently stated, direct “the enormous power of human knowledge to the enrichment of our own lives and to the shaping of a rational and civilized world order.”

NOW, THEREFORE, I, WILLIAM J. CLINTON, President of the United States of America, by virtue of the authority vested in me by the Constitution and laws of the United States, do hereby proclaim November 13 through November 17, 2000, as International Education Week. I urge all Americans to observe this week with events and programs that celebrate the benefits of international education to our citizens, our economy, and the world.

IN WITNESS WHEREOF, I have hereunto set my hand this thirteenth day of November, in the year of our Lord two thousand, and of the Independence of the United States of America the two hundred and twenty-fifth.

wj

[FR Doc. 00-29462

Filed 11-14-00; 10:59 am]

Billing code 3195-01-P